DEPARTMENT OF COMMERCE

International Trade Administration

[A-570-836]

Glycine From the People's Republic of China: Initiation of Antidumping Duty New Shipper Review

AGENCY: Import Administration, International Trade Administration, Department of Commerce.

DATES: Effective Date: November 4, 2008.

SUMMARY: The Department of Commerce (the Department) has determined that a request for a new shipper review (NSR) of the antidumping duty order on glycine from the People's Republic of China (PRC), received on September 24, 2008, meets the statutory and regulatory requirements for initiation. The period of review (POR) of this new shipper review is March 1, 2008, through August 31, 2008.

FOR FURTHER INFORMATION CONTACT: Stephen Bailey or Angelica Mendoza, AD/CVD Operations, Office 7, Import Administration, International Trade Administration, U.S. Department of Commerce, 14th Street and Constitution Avenue, NW., Washington, DC 20230; telephone: (202) 482-0193 and (202) 482-3019, respectively.

SUPPLEMENTARY INFORMATION:

Background

The notice announcing the antidumping duty order on glycine from the PRC was published on March 29, 1995.¹ See Antidumping Duty Order: Glycine From the People's Republic of China, 60 FR 16116 (March 29, 1995). On September 24, 2008, we received a timely request for a new shipper review from Jiangxi Ansun Chemical Technology Co., Ltd. (Jiangxi Ansun) in accordance with 19 CFR 351.214(c). Jiangxi Ansun made its request during the semiannual anniversary month. See 19 CFR 351.214(d)(2). Jiangxi Ansun certified that it produced and sold the glycine it exported to an unaffiliated U.S. purchaser, which is the basis for its request for a NSR.

¹ Therefore, a request for a new shipper review based on the semiannual anniversary month, in this case September, was due to the Department by the final day of September. See 19 CFR 351.214(d)(1) and (2).

The Department conducted queries of the U.S. Customs and Border Protection (CBP) database in order to confirm that Jiangxi Ansun's reported shipment of subject merchandise entered the United States for consumption and that liquidation of such shipment had been properly suspended for antidumping duties. See Memorandum to the File from Stephen Bailey, Customs and Border Protection Data for Entries of Glycine from the People's Republic of China, dated October 28, 2008. In reviewing the CBP data, we identified the Jiangxi Ansun's August 2008 sale to the United States and matched it with the documentation submitted by Jiangxi Ansun. We also solicited further information from CBP on U.S. entries of glycine produced by Jiangxi Ansun.

Initiation of New Shipper Review

Pursuant to section 751(a)(2)(B)(i)(I) of the Act, and 19 CFR 351.214(b)(2)(i), Jiangxi Ansun certified that it did not export glycine to the United States during the original POI. Pursuant to section 751(a)(2)(B)(i)(II) of the Act and 19 CFR 351.214(b)(2)(iii)(A), Jiangxi Ansun certified that, since the initiation of the investigation, it has never been affiliated with any exporter or producer who exported glycine to the United States during the POI, including those not individually examined during the investigation. As required by 19 CFR 351.214(b)(2)(iii)(B), Jiangxi Ansun also certified that its export activities were not controlled by the central government of the PRC.

In addition to the certifications described above, Jiangxi Ansun submitted documentation establishing the following: (1) The date on which it first shipped glycine for export to the United States and the date on which the glycine was first entered, or withdrawn from warehouse, for consumption; (2) the volume of its first shipment; and (3) the date of its first sale to an unaffiliated customer in the United States.

On September 29, 2008, the Department received comments from GEO Specialty Chemicals, Inc. (GEO), a domestic glycine producer and the successor company to one of the original petitioners, Hampshire Chemical Corporation, regarding Jiangxi Ansun's NSR request. In its comments, GEO argues that Jiangxi Ansun had two shipments of glycine that entered the United States in February 2008, prior to the single shipment of glycine that is the basis for this NSR request. GEO also notes that Jiangxi Ansun, by its own admission, is the successor company to Jiangxi Electrochemical Co., Ltd.

On October 3, 2008, Jiangxi Ansun submitted comments in rebuttal to GEO's September 29, 2008, comments. Jiangxi Ansun contends that since the February 2008 transactions occurred in Canada, they are not United States transactions and do not constitute Jiangxi Ansun's first shipment to the United States. It also maintains that neither the Tariff Act of 1930, as amended (the Act), nor the Department's regulations contain a requirement that the shipment made by the new exporter, upon which the NSR request is based, be the first shipment made by that exporter to the United States.

In accordance with section 751(a)(2)(B) of the Act and 19 CFR 351.214(d)(1), we find that the request submitted by Jiangxi Ansun meets the threshold requirements for initiation of a NSR of its shipment of glycine from the PRC produced and exported by Jiangxi Ansun. See Memorandum to the File through Richard O. Weible, Director, AD/CVD Operations, Office 7, from Stephen Bailey, entitled “Initiation Checklist of AD New Shipper Review: Glycine from the People's Republic of China,” dated concurrently with this notice. Therefore, we are initiating a NSR for the shipment of glycine produced and exported by Jiangxi Ansun to the United States. With respect to the issues raised by the parties, we intend to evaluate them further in the context of this NSR. We intend to issue the preliminary results of this review no later than 180 days from the date of initiation, and the final results of this review no later than 270 days from the date of initiation. See section 751(a)(2)(B)(iv) of the Act.

Period of Review

The POR is March 1, 2008, through August 31, 2008. See 19 CFR 351.214(g)(1)(i)(B).

Separate Rate

In cases involving non-market economies, the Department requires that a company seeking to establish eligibility for an antidumping duty rate separate from the PRC-wide entity rate provide evidence of de jure and de facto absence of government control over the company's export activities. Accordingly, we will issue a questionnaire to Jiangxi Ansun, including a separate-rate section. The review will proceed if the responses provide sufficient indication that Jiangxi Ansun is not subject to either de jure or de facto government control with respect to its exports of glycine. However, if Jiangxi Ansun does not demonstrate its eligibility for a separate rate, the company will be deemed not separate from other companies that exported during the POI, and the NSR for Jiangxi Ansun will be rescinded.

On August 17, 2006, the Pension Protection Act of 2006 (H.R. 4) was signed into law. Section 1632 of H.R. 4 temporarily suspends the authority of the Department to instruct CBP to collect a bond or other security in lieu of a cash deposit in new shipper reviews during the period April 1, 2006, through June 30, 2009. Therefore, the posting of a bond or other security under section 751(a)(2)(B)(iii) of the Act in lieu of a cash deposit is not available in this case. Importers of glycine produced and exported by Jiangxi Ansun must continue to post a cash deposit of estimated antidumping duties on each entry of subject merchandise at the current PRC-wide rate of 155.89 percent.

Interested parties requiring access to proprietary information in this new shipper review should submit applications for disclosure under administrative protective order in accordance with 19 CFR 351.305 and 351.306.

This initiation and notice are in accordance with section 751(a)(2)(B) of the Act and 19 CFR 351.214 and 351.221(c)(1)(i).

Dated: October 28, 2008.
Gary Taverman,
Acting Deputy Assistant Secretary for Import Administration.

[FR Doc. E8-26283 Filed 11-3-08; 8:45 am]

BILLING CODE 3510-DS-P